DEPARTMENT OF TRANSPORTATION

Surface Transportation Board

[Docket No. FD 35888]

The Great Lake Port Corporation D/B/A Grand River Railway—Acquisition and Operation Exemption—CSX Transportation, Inc.

The Great Lake Port Corporation d/b/a Grand River Railway (GRR), a noncarrier, has filed a verified notice of exemption under 49 CFR 1150.31 to permit it to acquire and operate as a common carrier approximately 2.56 miles of CSX Transportation, Inc. (CSXT) track. The track runs between Painesville, former B&O Valuation Station 2535+40, and Grand River, at the end of the track, former Conrail Valuation Station 45+01, in Lake County, Ohio (the Line).¹

¹ In 2003, the Board permitted the abandonment and discontinuance of service over the Line. See N.Y. Cent. Lines—Aban. Exemption—in Lake Cnty., Ohio, AB 565 (Sub-No. 11X), et al. (STB served Jan. 31, 2003). CSXT consummated the abandonment in 2004, see CSXT letter, N.Y. Cent. Lines—Aban. Exemption—in Lake Cnty., Ohio, AB 565 (Sub-No. 11X) (filed Dec. 29, 2004), and, according to GRR, reclassified it as industry track.

According to GRR, it will soon enter an agreement to purchase the Line from CSXT. GRR intends to rehabilitate the Line and commence common carrier service to Morton Salt, which is located at the end of the Line, and any other shipper that requests service. GRR will interchange traffic with CSXT, the only railroad that connects to the Line.

According to GRR, the agreement between GRR and CSXT does not contain an interchange commitment.

GRR certifies that its projected annual revenues as a result of this transaction will not exceed those that would qualify it as a Class III rail carrier and will not exceed $5 million.

This transaction may be consummated on or after January 7, 2015, the effective date of the exemption (30 days after the verified notice was filed).²

² GRR hopes to consummate its transaction on December 26, 2014. In furtherance of this goal, GRR has filed a petition for partial waiver of 49 CFR 1150.32(b) to permit the exemption to become effective on December 26, 2014, instead of the standard 30 days after the verified notice was filed. The waiver request will be addressed in a separate Board decision.

If the verified notice contains false or misleading information, the exemption is void ab initio. Petitions to revoke the exemption under 49 U.S.C. 10502(d) may be filed at any time. The filing of a petition to revoke will not automatically the stay the effectiveness of the exemption. Petitions to stay must be filed no later than December 29, 2014, unless the Board grants GRR's petition for partial waiver of 49 CFR 1150.32(b) to permit the exemption to become effective on December 26, 2014, in which case the due date for stays will be established in the Board's decision acting on GRR's petition.

An original and 10 copies of all pleadings, referring to Docket No. FD 35888, must be filed with the Surface Transportation Board, 395 E Street SW., Washington, DC 20423-0001. In addition, a copy of each pleading must be served on Louis E. Gitomer, Esq., Law Offices of Louis E. Gitomer, LLC, 600 Baltimore Avenue, Suite 301, Towson, MD 21204.

Board decisions and notices are available on our Web site at WWW.STB.DOT.GOV.

Decided: December 17, 2014.
By the Board, Rachel D. Campbell, Director, Office of Proceedings.
Brendetta S. Jones,
Clearance Clerk.

[FR Doc. 2014-29866 Filed 12-19-14; 8:45 am]

BILLING CODE 4915-01-P